DEPARTMENT OF ENERGY

Federal Energy Regulatory Commission

Notice of Availability of the Final Environmental Impact Statement for the Proposed Lake Charles Liquefaction Project

| Docket No.
Trunkline Gas Company, LLC | CP14-119-000
Lake Charles LNG Company, LLC | CP14-120-000
Lake Charles LNG Export Company, LLC | CP14-122-000

The staff of the Federal Energy Regulatory Commission (FERC or Commission) has prepared a final environmental impact statement (EIS) for the Lake Charles Liquefaction Project, proposed by Trunkline Gas Company, LLC (Trunkline), Lake Charles LNG Company, LLC, and Lake Charles LNG Export Company, LLC in the above-referenced dockets. Trunkline requests authorization to construct, install, and operate new natural gas pipeline facilities; modify certain existing pipeline facilities; and abandon one compressor unit in the states of Arkansas, Mississippi, and Louisiana (collectively referred to as the Non-Liquefaction Facilities). Lake Charles LNG Company, LLC and Lake Charles LNG Export Company, LLC (collectively referred to as Lake Charles LNG) request authorization to site, construct, and operate new liquefaction facilities adjacent to an existing liquefied natural gas (LNG) terminal located in Calcasieu Parish, Louisiana, and to construct and operate certain facility modifications at the existing LNG terminal. The new liquefaction facilities would have a design production capacity of 16.45 million metric tons of LNG per annum, which would provide an LNG export capacity equivalent to about 2 billion cubic feet per day of natural gas.

Lake Charles LNG also requests authorization to abandon certain terminal facilities previously certificated under the Natural Gas Act (NGA) section 7; and convert such certificated facilities so that the entirety of the company's facilities and operations are authorized solely under NGA section 3.

The final EIS assesses the potential environmental effects of construction and operation of the Lake Charles Liquefaction Project in accordance with the requirements of the National Environmental Policy Act. The FERC staff concludes that approval of the proposed project would have some adverse environmental impacts; however, most of these impacts would be reduced to less-than-significant levels with the implementation of Lake Charles LNG's and Trunkline's proposed mitigation and the additional measures recommended in the final EIS.

The U.S. Army Corps of Engineers, U.S. Coast Guard, U.S. Department of Energy, U.S. Fish and Wildlife Service, and U.S. Department of Transportation participated as cooperating agencies in the preparation of the final EIS. Cooperating agencies have jurisdiction by law or special expertise with respect to resources potentially affected by a proposal and participate in the National Environmental Policy Act analysis. Although the cooperating agencies provided input on the conclusions and recommendations presented in the final EIS, the agencies will present their own conclusions and recommendations in their respective records of decision or determinations for the project.

The Lake Charles Liquefaction Project includes:

• Three liquefaction trains, each with a production capacity sufficient to produce 5.48 million metric tons per annum of LNG for export (each train would contain metering and gas treatment facilities, liquefaction and refrigerant units, safety and control systems, and associated infrastructure);

• modifications and upgrades at the existing Trunkline LNG terminal;

• about 0.5 mile of 48-inch-diameter feed gas line to supply natural gas to the liquefaction facility from existing gas transmission pipelines;

• approximately 17.9 miles of 24- and 42-inch-diameter natural gas pipeline;

• a new compressor station with a manufacturer's rating of 103,175 horsepower (hp), which equates to a site-specific rating of 98,685 hp (based on relative humidity and elevation);

• abandonment of a 3,000-hp compressor unit, installation of a unit with a manufacturer's rating of 15,900 hp and site-specific rating of 15,002-hp unit, and piping modifications at one existing compressor station;

• modification of station piping at three other existing compressor stations;

• five new meter stations and modifications and upgrades of five existing meter stations;

• modification of certain existing pipeline facilities; and

• construction of miscellaneous auxiliary and appurtenant facilities.

The FERC staff mailed copies of the final EIS to federal, state, and local government representatives and agencies; elected officials; environmental and public interest groups; Native American tribes; potentially affected landowners; other interested individuals and non-governmental organizations; newspapers and libraries in the project area; and parties to this proceeding. Paper copy versions of this EIS were mailed to those specifically requesting them; all others received a compact disk version. In addition, the final EIS is available for public viewing on the FERC's Web site (www.ferc.gov) using the eLibrary link. A limited number of hardcopies are available for distribution and public inspection at: Federal Energy Regulatory Commission, Public Reference Room, 888 First Street NE., Room 2A, Washington, DC 20426, (202) 502-8371.

Additional information about the project is available from the Commission's Office of External Affairs, at (866) 208-FERC, or on the FERC Web site (www.ferc.gov) using the eLibrary link. Click on the eLibrary link, click on “General Search,” and enter the docket number(s) excluding the last three digits in the Docket Number field (i.e., CP14-119, CP14-120, and CP14-122). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: August 14, 2015.
Kimberly D. Bose,
Secretary.

[FR Doc. 2015-20574 Filed 8-19-15; 8:45 am]

BILLING CODE 6717-01-P